DEPARTMENT OF LABOR

Employment and Training Administration

Investigations Regarding Certifications of Eligibility To Apply for Worker Adjustment Assistance

Petitions have been filed with the Secretary of Labor under section 221 (a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under title II, chapter 2, of the Act. The investigations will further relate , as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than October 22, 2001.

Interested persons are invited to submit written comments regarding the subject matter of the investigations to the Director, Division of Trade Adjustment Assistance, at the address shown below, not later than October 22, 2001.

The petitions filed in this case are available for inspection at the Office of the Director, Division of Trade Adjustment Assistance, Employment and Training Administration, U.S. Department of Labor, Room C-5311, 200 Constitution AVenue, NW, Washington, DC 20210.

Signed at Washington, DC, this 10th day of September, 2001.
Edward A. Tomchick,
Director, Division of Trade Adjustment Assistance.

Appendix
[Petitions instituted on 9/10/2001]
TA-W | Subject firm (Petitioners) | Location | Date of petition | Product(s)
39,950 | Antec Plastic (Wkrs) | El Paso, TX | 08/14/2001 | Plastic Products—Telecommunications.
39,951 | Rotorex Company (Wkrs) | Walkersville, MD | 08/20/2001 | Compressors for Air Conditioners.
39,952 | MJM Knitwear (Wkrs) | Brooklyn, NY | 08/16/2001 | Ladies' and Men's Sweaters.
39,953 | Zexel Valeo Compressor (Co.) | Decatur, IL | 08/17/2001 | Compressors.
39,954 | Pulp and Paper of America (PACE) | Berlin, NH | 08/21/2001 | Hardwood and Softwood Pulp Bales.
39,955 | Pennco Tool and Die (Co.) | Meadville, PA | 08/20/2001 | Custom Die Tooling—Automotive.
39,956 | Commander Aircraft (Wkrs) | Bethany, OK | 08/20/2001 | Single Engine Aircraft and Parts.
39,957 | Acushnet Rubber Co. (Co.) | New Bedford, MA | 08/15/2001 | Windshield Wiper Blades.
39,958 | Akzo Nobel Functional (Co.) | Gallipolis Ferr, WV | 08/17/2001 | Flame Retardants.
39,959 | Teccor Electronics (Wkrs) | Irving, TX | 08/17/2001 | Power Semiconductors.
39,960 | B-way (Wkrs) | Elizabeth, NJ | 07/24/2001 | Cans Ridge Bottoms.
39,961 | WRS Motion Picture (Wkrs) | Pittsburgh, PA | 08/20/2001 | Various Formats of Video Tape and Film.
39,962 | Specialty Coatings of VA (Wkrs) | Ridgeway, VA | 08/20/2001 | Wallpaper Coating.
39,963 | Thomasville Furniture (Co.) | West Jefferson, NC | 07/20/2001 | Mirrors, Chairs, Beds.
39,964 | NACCO Materials Handling (ILTB) | Danville, IL | 06/26/2001 | Material Handling Equipment.
39,965 | Fishman and Tobin (Wkrs) | Medley, FL | 08/16/2001 | Children's Pants and Jackets.
39,966 | Blue Water Fiber Limited (Wkrs) | Port Huron, MI | 08/17/2001 | Recycled Paper Pulp.
39,967 | Bethlehem Steel Corp. (USWA) | Lackawanna, NY | 08/20/2001 | Coke and Coke By-Products.
39,968 | Sandvik Special Metals (PACE) | Kennewick, WA | 08/28/2001 | Zirconium Tubing for Nuclear Reactor.
39,969 | DuPont Nylon (Co.) | Seaford, DE | 08/21/2001 | Nylon Fiber.
39,970 | KOA Speer Electronics (Co.) | Bradford, PA | 08/28/2001 | Electronic Components—Telecommunications.
39,971 | Rundel Products, Inc. (Co.) | Portland, OR | 08/22/2001 | Vinyl Binders.
39,972 | Tyco Electronics (Wkrs) | East Carlisle, PA | 08/23/2001 | Stamping and Electroplated Connectors.
39,973 | Interroll Corp. USA (Co.) | Wilmington, NC | 07/12/2001 | Carton Flow Storage.
39,974 | Motorola, Inc. (Wkrs) | Arlington Hgts, IL | 08/23/2001 | Communication Equipment.
39,975 | Pleatz LLC (UNITE) | New York, NY | 08/10/2001 | Spoprtswear.
39,976 | VF Imagewear (West) (Co.) | Harriman, TN | 08/22/2001 | Occupational Apparel.
39,977 | Lamtech LLC (Co.) | Hartsville, TN | 08/22/2001 | Sewing Machine Stands.
39,978 | Hein Werner (Co.) | Baraboo, WI | 08/22/2001 | Collision Repair Equipment.
39,979 | Fort Atkinson Industries (Wkrs) | Fort Atkinson, WI | 08/23/2001 | Grinding Castings—Automotive.
39,980 | M and S Manufacturing (Wkrs) | Morenci, MI | 08/18/2001 | Automobile Brake Parts.
39,981 | B and L Sportswear (Wkrs) | Four Oaks, NC | 08/20/2001 | Men's and Ladies' Knit Polos.
39,982 | Auto Body Connection (Wkrs) | Erie, PA | 08/10/2001 | Automobile Fenders, Hoods and Doors.
39,983 | Edgewater Steel (USWA) | Oakmont, PA | 08/21/2001 | Steel Train Wheels, Gear Blanks.
39,984 | Hollander Home Fashions (UNITE) | Tignall, GA | 08/23/2001 | Blankets, Pillows and Comforters.
39,985 | Salz Leathers (Co.) | Santa Cruz, CA | 08/22/2001 | Finish Bovine Leather.
39,986 | Lexington Fabrics (Co.) | Geraldine, AL | 08/22/2001 | Textiles, Apparel.
39,987 | GSI Lumonics (Wkrs) | Maple Grove, MN | 08/21/2001 | Laser Manufacturing Systems.
39,988 | Stephens Pile (Wkrs) | Russel Springs, KY | 08/23/2001 | Farm Gates, Panel Stands, Wire Fences.
39,989 | Crouse Hinds—Cooper Ind. (IBEW) | Syracuse, NY | 08/24/2001 | Sealing Fittings, Cable Fittings.
39,990 | Eaton Corporation (Co.) | Pittsburgh, PA | 08/14/2001 | Power Management Products.
39,991 | Broyhill Furniture (Wkrs) | Lenoir, NC | 08/23/2001 | Upholstered Furniture.
39,992 | Saco Lowell (Co.) | Easley, SC | 08/20/2001 | Machinery for Textile Industry.
39,993 | J and J Tool (Wkrs) | Guys Mills, PA | 08/23/2001 | Mill and Grind Plastic Parts.
39,994 | Talbar Inc. (Co.) | Meadville, PA | 08/27/2001 | Tool and Die Makers.
39,995 | Sintermet LLC (Wkrs) | Kitanning, PA | 08/22/2001 | Rod Mill Rolls.

[FR Doc. 01-25470 Filed 10-10-01; 8:45 am]

BILLING CODE 4510-30-M